DEPARTMENT OF TRANSPORTATION

Pipeline and Hazardous Materials Safety Administration

Office of Hazardous Materials Safety; Special Permits; Applications

AGENCY: Pipeline and Hazardous Materials Safety Administration (PHMSA), DOT.

ACTION: Notice of actions on Special Permit Applications.

SUMMARY: In accordance with the procedures governing the application for, and the processing of, special permits from the Department of Transportation's Hazardous Material Regulations (49 CFR part 107, Subpart B), notice is hereby given of the actions on special permits applications in (June to June 2014) The mode of transportation involved is identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on July 17, 2014.
Donald Burger,
Chief, Special Permits and Approval.

S.P. No. | Applicant | Regulation(s) | Nature of special permit thereof
MODIFICATION SPECIAL PERMIT GRANTED
11373-M | Marlin Company, Inc., Lenoir, NC | 49 CFR 177.848(d) | To modify the special permit to authorize 1 H2 drums as additional packaging.
14313-M | Airgas USA, LLC., Tulsa, OK | 49 CFR 173.302a(b)(2), 180.205, 172.203(a), 172.301(c) | To authorize the use of ultrasonic inspection as an alternative retest method for certain cylinders manufactured under a DOT special permit.
14999-M | Classic Helicopter Group, LLC, Woods Cross, UT | 49 CFR 172.101 Column (9B), 172.204(c)(3), 173.27(b)(2), 175.30(a)(1), 172.200, 172.300, and 175.75 | To modify the special permit to authorize additional Division 1.1 materials and remove the requirement that the propane cylinders must be transported in approved netting.
14283-M | U.S. Department of Energy, Washington, DC | 49 CFR 172.203(g)(1), 172.302(a), 172.331, 172.332, 174.59, 172.310(b) and (c), 172.403, 173.427(b), 173.443(c) and (d), 174.715(a), and 177.843(a) and (b), and 174.26 | To modify the special permit to authorize an increase in the payload weight.
14467-M | Brenner Tank, LLC, Fond Du Lac, WI | 49 CFR 178.345-2, 178.346-2, 178.347-2, and 178.348-2 | To modify the special permit to authorize additional duplex stainless steel grades.
13127-M | American Pacific Corporation, Cedar City, UT | 49 CFR 172.101 Column 7, Special Provision 1136 and 172.102(c)(4), Table 1.—IBC CODES, IBC Code IB6 | To modify the special permit to authorize cargo vessel as an additional mode of transportation.
NEW SPECIAL PERMIT GRANTED
15999-N | National Aeronautics and Space Administration (NASA), Washington, DC | 49 CFR Part 172 and 173 | To authorize the transportation in commerce of certain hazardous material as part of the Orion space capsule without requiring shipping papers, marking and labeling. (modes 1, 3).
16030-N | Seattle Children's Hospital dba Seattle Children's Research Institute, Seattle, WA | 49 CFR 49 CFR 173.24(b) | To authorize the transportation in commerce of a specification cylinder containing medical grade oxygen with the valve opened and connected to a system designed to maintain vital conditions needed to keep tissue samples viable for research use. (mode 1).
16065-N | American Spraytech, North Branch, NJ | 49 CFR 173.306(a)(3)(v) | To authorize the transportation in commerce of certain aerosols containing a Division 2.2 compressed gas in certain non-refillable aerosol containers which are not subject to the hot water bath test. (mode 1).
16074-N | Welker Inc., Sugar Land, TX | 49 CFR 173.201, 173.202, and 173.203 | To authorize the transportation in commerce of certain Class 3 liquids in non-DOT specification cylinders. (modes 1, 2, 3, 4).
16081-N | Cabela's Inc., Sidney, NE | 49 CFR 178.602 | To authorize the transportation in commerce of certain Division 1.4 primers and powders in packaging that has not been tested for each specific configuration. (modes 1, 2, 3, 4).
16088-N | Golden Eagle Outfitters Inc., Delta Jet, AK | 49 CFR 49 CFR 172.101 Column (8C), 173.241, 173.242, 175.310 | To authorize the transportation in commerce of certain flammable and combustible liquids in alternative packaging having a capacity of 119 gallons or more by air. (modes 1, 4).
16111-N | Allen Institute for Brain Science, Seattle, WA | 49 CFR 173.24(b)(1) | To authorize the transportation in commerce of living human brain tissue continuously fed by oxidizing compressed gas. (mode 1).
16114-N | Global Nuclear Fuel-Americas, LLC, Wilmington, NC | 49 CFR 173.410 and 173.417 | To authorize the transportation in commerce of fissile uranium hexafluoride in alternative packaging shipped pursuant to US DOT CoC USA/0411/AF for repairs. (mode 1).
16119-N | Pathfinder Aviation, Inc., Homer, AK | 49 CFR § 172.101 Column (9B), § 172.204(c)(3), § 173.27(b)(2), § 175.30(a)(1), §§ 172.200, 172.300, 172.400, 173.302(f)(3) and § 175.75 | To transport in commerce of certain hazardous materials by cargo aircraft including 14 CFR Part 133 Rotorcraft External Load operations, in remote areas of the US only, without being subject to hazard communication requirements, quantity limitations and certain loading and stowage requirements. (mode 4).
16120-N | Pacific Helicopter Tours, Inc., Kahului, HI | 49 CFR 49 CFR Table § 172.101, Column(9B), § 172.204(c)(3), § 173.27(b)(2), § 175.30(a)(1), § 172.200, 172.300, and 172.400 | To authorize the transportation in commerce of certain hazardous materials by 14 CFR Part 133 Rotorcraft External Load Operations transporting hazardous materials attached to or suspended from an aircraft, in remote areas of the US only, without being subject to hazard communication requirements, quantity limitations and certain loading and stowage requirements. (mode 4).
16129-N | Ryan Air Inc., Anchorage, AK | 49 CFR 172.101 Column (9B) and § 172.62(c) | To authorize the transportation in commerce of certain Class 1 explosive materials which are forbidden for transportation by air, to be transported by cargo aircraft within the State of Alaska when other means of transportation are impracticable or not available. (mode 4).
16130-N | The Federal Bureau of Investigation (FBI), Quantico, VA | 49 CFR 173.21(i) | To authorize the transportation in commerce of lighters without LA approvals for law enforcement purposes. (modes 1, 4).
16133-N | Cryovat International BV (The Rootselaar Group) | 49 CFR 178.274(b) and 178.277(b)(1) | To authorize the manufacture, marking, sale and use of UN portable tanks conforming to portable tank code T75 that have been designed, constructed and stamped in accordance with the latest edition of Section VIII, Division 1 of the ASME Code with a design margin of 3.5:1 (modes 1, 2, 3).
16140-N | ERA Helicopters LLC, Lake Charles, LA | 49 CFR 172.101 Table Column (9A) | To authorize the transportation in commerce of certain hazardous materials which exceed the authorized quantity limitations for passenger-carrying aircraft. (mode 5).
16145-N | Bering Air, Inc., Nome, AK | 49 CFR 49 CFR 172.101 Column (8C), 173.241, 173.242, 175.310 | To authorize the Column transportation in commerce of certain flammable and combustible liquids in alternative packaging having a capacity of 119 gallons or more by air. (modes 1, 4).
16169-N | JCR Construction Company, Inc., Raymond, NH | 49 CFR 49 CFR Table § 172.101, Column (9B), § 172.204(c)(3), § 173.27(b)(2), § 175.30(a)(1), § 172.200, 172.300, and 172.400 | To authorize the transportation in commerce of certain hazardous materials by 14 CFR Part 133 Rotorcraft External Load Operations transporting hazardous materials attached to or suspended from an aircraft, in remote areas of the US only, without being subject to hazard communication requirements, quantity limitations and certain loading and stowage requirements. (mode 4).
EMERGENCY SPECIAL PERMIT GRANTED
15428-M | National Aeronautics and Space Administration and (NASA), Washington, DC | 49 CFR 172.300, 172.400 and Part 173 | To modify the special permit to authorize Divison 1.3C, 1AC and 1.4S materials in non-DOT specification packagings. (modes 1, 3).
16180-N | U.S. Department of Justice, Bureau of Alcohol, Tobacco, Firearms and Explosives (ATF), Washington, DC | 49 CFR 173.56 and 172.320 | To authorize the one-way transportation in commerce of unapproved fireworks for use in a research testing project. (mode 1).
DENIED
12629-M | Request by TEA Technologies, Inc., Amarillo, TX, June 11, 2014. To modify the special permit to authorize testing to be performed by a person that is certified by TEA Technologies.
16091-N | Request by Four Turkeys LLC, De Witt, NE, June 25, 2014. To authorize the manufacture, mark and sale of 50 gallon to 105 gallon refueling tanks as intermediate bulk containers a system for use in transporting various Class 3 hazardous materials.

[FR Doc. 2014-17507 Filed 7-25-14; 8:45 am]

BILLING CODE 4909-60-M